DEPARTMENT OF HOMELAND SECURITY

Coast Guard

[Docket No. USCG-2009-0168]

Interim Guidance for Nontank Vessel Response Plans

AGENCY: Coast Guard, DHS.

ACTION: Notice of cancellation.

SUMMARY: The Coast Guard announces the cancellation of Navigation and Vessel Inspection Circular (NVIC) No. 01-05, Change (CH)-1, “Interim Guidance for the Development and Review of Response Plans for Nontank Vessels.” NVIC 01-05, CH-1 is replaced by the “Nontank Vessel Response Plans and Other Response Plan Requirements” final rule promulgated on September 30, 2013.

DATES: NVIC No. 01-05, CH-1 is cancelled effective January 31, 2014.

FOR FURTHER INFORMATION CONTACT: If you have questions on the cancellation of NVIC 01-05, CH-1, call Lieutenant Commander John Peterson, Vessel Response Plan Program, Office of Commercial Vessel Compliance, at telephone number 202-372-1226. If you have questions on reviewing material in the docket, call Cheryl Collins, Program Manager, Docket Operations, at telephone number 202-366-9826.

SUPPLEMENTARY INFORMATION:

Background

On August 9, 2004, the President signed the Coast Guard and Maritime Transportation Act of 2004 (Pub. L. 108-293; the “2004 Act”). Section 701 of the 2004 Act required any self-propelled nontank vessel of 400 gross tons or greater on U.S. navigable waters to prepare and submit an oil response plan by August 8, 2005.

On February 23, 2006, Change 1 to NVIC 01-05, “Interim Guidance for the Development and Review of Response Plans for Nontank Vessels,” was issued to augment previous guidance for nontank vessels preparing and submitting response plans to the U.S. Coast Guard. The NVIC was intended only to provide non-binding voluntary guidance to industry for preparing response plans.

Existing plans developed in accordance with NVIC 01-05, CH-1, may not comply with the newly issued nontank vessel response plan regulations, and may require the vessel owner or operator to revise a plan in accordance with the “Nontank Vessel Response Plans and Other Response Plan Requirements” final rule, RIN 1625-AB27, promulgated on September 30, 2013 (78 FR 60100). The final rule may be viewed online at http://Regulations.gov under docket number USCG-2008-1070. If you do not have internet access, you can obtain a copy of the final rule by contacting the VRP Program staff at 202-732-1005, or your local U.S. Coast Guard Sector Command. This notice is issued under the authority of 5 U.S.C. 552(a).

Dated: March 31, 2014.
J.C. Burton,
Captain, U.S. Coast Guard, Director, Inspections and Compliance.

[FR Doc. 2014-07600 Filed 4-4-14; 8:45 am]

BILLING CODE 9110-04-P